DEPARTMENT OF DEFENSE

Office of the Secretary

[Docket ID DOD-2012-OS-0036]

Privacy Act of 1974; Systems of Records

AGENCY: National Security Agency/Central Security Service, DoD.

ACTION: Notice to Amend a System of Records.

SUMMARY: The National Security Agency (NSA) is amending a system of records notice in its existing inventory of records systems subject to the Privacy Act of 1974 (5 U.S.C. 552a), as amended.

DATES: This proposed action will be effective without further notice on April 16, 2012 unless comments are received which result in a contrary determination.

ADDRESSES: You may submit comments, identified by docket number and title, by any of the following methods:

• Federal Rulemaking Portal: http://www.regulations.gov. Follow the instruction for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill at National Security Agency/Central Security Service, Freedom of Information Act and Privacy Act Office, 9800 Savage Road, Suite 6248, Ft. George G. Meade, MD 20755-6248 or at (301) 688-6527.

SUPPLEMENTARY INFORMATION: The National Security Agency/Central Security System' systems of records notices subject to the Privacy Act of 1974 (5 U.S.C. 552a), as amended, have been published in the Federal Register and are available from the address in FOR FURTHER INFORMATION CONTACT. The proposed changes to the record system being amended are set forth below. The proposed amendment is not within the purview of subsection (r) of the Privacy Act of 1974 (5 U.S.C. 552a), as amended, which requires the submission of a new or altered system report.

Dated: March 9, 2012.
Aaron Siegel,
Alternate OSD Federal Register Liaison Officer, Department of Defense.

GNSA 06

System Name:

NSA/CSS Health, Medical and Safety Files (February 10, 2009, 74 FR 6581).

Changes:

* * * * *

System location:

Delete entry and replace with “Primary Location: National Security Agency/Central Security Service, 9800 Savage Road, Ft. George G. Meade, MD 20755-6000.

Decentralized segments:

Each staff, line, contract and field element as appropriate.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

To the Department of Labor in those cases involving compensation claims.

The DoD “Blanket Routine Uses” published at the beginning of the NSA/CSS compilation of system of records notices apply to this system.”

* * * * *

Storage:

Delete entry and replace with “Paper records in file folders and electronic storage media.”

* * * * *

System manager(s) and address:

Delete entry and replace with “Chief, Occupational Health, Environmental & Safety Services, National Security Agency/Central Security Service, 9800 Savage Road, Ft. George G. Meade, MD 20755-6000.”

Notification Procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, Social Security Number (SSN), mailing address, and signature.”

Record Access Procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, Social Security Number (SSN), mailing address, and signature.”

Contesting Record Procedures:

Delete entry and replace with “The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.”

* * * * *

[FR Doc. 2012-6211 Filed 3-14-12; 8:45 am]

BILLING CODE 5001-06-P